DEPARTMENT OF HEALTH AND HUMAN SERVICES

Centers for Medicare & Medicaid Services

[CMS-8052-N]

Medicare Program; Meeting of the Medicare Economic Index Technical Advisory Panel

AGENCY: Centers for Medicare & Medicaid Services (CMS), HHS.

ACTION: Notice of meeting.

SUMMARY: This notice announces that a public meeting of the Medicare Economic Index Technical Advisory Panel (“the Panel”). The purpose of the Panel is to review all aspects of the Medicare Economic Index (MEI). During this third and final meeting the Panel will discuss their findings and recommendations regarding the MEI's inputs, input weights, price-measurement proxies, and productivity adjustment. This meeting is open to the public in accordance with the Federal Advisory Committee Act.

DATES: Meeting date: The public meeting will be held on Wednesday, July 11, 2012 from 8:30 a.m. until 5 p.m., Eastern Daylight Time (EDT).

Deadline for submission of written comments: Written comments must be received at the mailing or email address specified in the FOR FURTHER INFORMATION CONTACT section of this notice by 5 p.m. EDT, Thursday, July 5, 2012.

Deadlines for speaker registration and presentation materials: The deadline to register to be a speaker and to submit PowerPoint presentation materials and any other written materials that will be used in support of an oral presentation is 5 p.m. EDT, Thursday, July 5, 2012. Speakers may register by contacting Toya Via, HCD International, by phone at (301) 552-8803 or via email at MEITAP@hcdi.com. Materials that will be used in support of an oral presentation must be received at the mailing or email address specified in the FOR FURTHER INFORMATION CONTACT section of this notice, by 5 p.m. EDT, Thursday, July 5, 2012.

Registration deadline for all other attendees: Individuals may register online at http://www.hcdi.com/mei/or by phone by contacting Toya Via, HCD International, at (301) 552-8803 by 5 p.m. EDT, Thursday, July 5, 2012.

Deadline for submission of a request for special accommodations: Persons attending the meeting who are hearing or visually impaired, or have a condition that requires special assistance or accommodations, are asked to contact the Designated Federal Officer as specified in the FOR FURTHER INFORMATION CONTACT section of this notice by 5 p.m. EDT, Thursday, July 5, 2012.

ADDRESSES: Meeting location: We will be broadcasting the meeting live via webinar and conference call (for audio purposes). Webinar details will be sent to registered attendees. At the close of the second meeting on June 25, 2012 (77 FR 34050), the Designated Federal Officer will decide if the third and final meeting, in addition to the webinar, will also be held in the Auditorium of the Centers for Medicare & Medicaid Services (CMS), 7500 Security Boulevard, Baltimore, MD 21244. The decision will be available online at http://www.hcdi.com/mei/after 5 p.m. EDT, Monday, June 25, 2012.

FOR FURTHER INFORMATION CONTACT: John Poisal, Designated Federal Officer, Centers for Medicare & Medicaid Services, Office of the Actuary, Mail stop N3-02-02, 7500 Security Boulevard, Baltimore, MD 21244 or contact Mr. Poisal by phone at (410) 786-6397 or via email at John.Poisal@cms.hhs.gov. Press inquiries are handled through the CMS Press Office at (202) 690-6145.

SUPPLEMENTARY INFORMATION:

I. Background

The Medicare Economic Index Technical Advisory Panel (“the Panel”) was established by the Secretary to conduct a technical review of the Medicare Economic Index (MEI). The review will include the inputs, input weights, price-measurement proxies, and productivity adjustment. For more information on the Panel, see the October 7, 2011 Federal Register (76 FR 62415). You may view and obtain a copy of the Secretary's charter for the Panel at https://www.cms.gov/Regulations-and-Guidance/Guidance/FACA/MEITAP.html. The members of the Panel are: Dr. Ernst Berndt, Dr. Robert Berenson, Dr. Zachary Dyckman, Dr. Kurt Gillis, and Ms. Kathryn Kobe.

This notice announces the Wednesday, July 11, 2012 public meeting of the Panel. This meeting will focus on the Panel's findings and recommendations regarding the MEI's inputs, input weights, price-measurement proxies, and the productivity adjustment.

II. Meeting Format

This meeting is open to the public. There will be up to 45 minutes allotted at this meeting for the Panel to hear oral presentations from the public. Time allotted for each presentation may be limited. If the number of registrants requesting to speak is greater than can be reasonably accommodated during the scheduled open public hearing session, we will conduct a lottery to determine the speakers for the scheduled open public hearing session. The contact person will notify interested persons regarding their request to speak by 5 p.m. EDT, Friday, July 6, 2012. Any presentations that are not selected based on the lottery will be forwarded to the panel for consideration. For this meeting, public comments should focus on the MEI's inputs, input weights, price-measurement proxies, and productivity adjustment. We require that you declare at the meeting whether you have any financial involvement with manufacturers (or their competitors) of any items or services being discussed.

The Panel will deliberate openly on the topics under consideration. Interested persons may observe the deliberations, but the Panel will not hear further comments during this time except at the request of the chairperson. The Panel will also allow up to 15 minutes for an unscheduled open public session for any attendee to address issues specific to the topics under consideration.

III. Registration Instructions

HCD International is coordinating meeting registration. While there is no registration fee, individuals must register to attend. You may register online at http://www.hcdi.com/mei/ or by phone by contacting Toya Via, HCD International, at (301) 552-8803, by the deadline specified in the DATES section of this notice. Please provide your full name (as it appears on your government-issued photographic identification), address, organization, telephone, and email address. At the time of registration, you will be asked to designate if you plan to attend in person or via webinar. You will receive a registration confirmation with instructions for your arrival at the CMS complex or you will be notified that the seating capacity has been reached.

IV. Security, Building, and Parking Guidelines

This meeting will be held in a Federal government building; therefore, Federal security measures are applicable. We recommend that confirmed registrants arrive reasonably early, but no earlier than 45 minutes prior to the start of the meeting, to allow additional time to clear security. Security measures include the following:

• Presentation of government-issued photographic identification to the Federal Protective Service or Guard Service personnel.

• Inspection of vehicle's interior and exterior (this includes engine and trunk inspection) at the entrance to the grounds. Parking permits and instructions will be issued after the vehicle inspection.

• Inspection, via metal detector or other applicable means, of all persons entering the building. We note that all items brought into CMS, whether personal or for the purpose of presentation or to support a presentation, are subject to inspection. We cannot assume responsibility for coordinating the receipt, transfer, transport, storage, set-up, safety, or timely arrival of any personal belongings or items used for presentation or to support a presentation.

Note: Individuals who are not registered in advance will not be permitted to enter the building and will be unable to attend the meeting. The public may not enter the building earlier than 45 minutes prior to the convening of the meeting. All visitors must be escorted in areas other than the lower and first floor levels in the Central Building.

Authority: 5 U.S.C. App. 2, section 10(a).

Dated: June 26, 2012.
Marilyn Tavenner,
Acting Administrator, Centers for Medicare & Medicaid Services.

[FR Doc. 2012-15997 Filed 6-26-12; 4:15 pm]

BILLING CODE 4120-01-P